DEPARTMENT OF ENERGY

Federal Energy Regulatory Commission

[Docket No. CP02-426-000]

Columbia Gas Transmission Corporation; Notice of Request Under Blanket Authorization

August 23, 2002.

Take notice that on August 14, 2002, Columbia Gas Transmission Corporation (Columbia), 12801 Fair Lakes Parkway, Fairfax, Virginia 22030-0146, filed with the Federal Energy Regulatory Commission (Commission) in Docket No. CP02-426-000, a request pursuant to 157.205 and 157.216 of the Commission's Regulations (18 CFR 157.205 and 157.216) under the Natural Gas Act, for authorization to abandon by sale certain natural gas facilities located in Raleigh and Summers Counties, West Virginia, known as the KA-8 System, to Equitable Gathering, LLC (Equitable) ¹ and the service provided through the facilities, under Columbia's blanket certificate issued in Docket No. CP83-76-000, all as more fully set forth in the request which is on file with the Commission and open to public inspection. This filing is available for review at the Commission in the Public Reference Room or may be viewed on the Commission's website at http://www.ferc.gov using the “FERRIS” link. Enter the docket number excluding the last three digits in the docket number field to access the document. For Assistance, call (202) 502-8222 or for TTY, (202) 208-1659.

¹ Equitable is filing an application with the Commission for a limited jurisdiction certificate in Docket No. CP02-425-000.

Columbia and Equitable entered into an agreement in which Columbia will sell the facilities known as the KA-8 System with the rights-of-way and appurtenances, which consists of: Line KA-11 (approximately 0.8 mile of 4-inch pipeline); Line KA-16 (approximately 0.1 mile of 4-inch pipeline); Line KA-7 (approximately 6 miles of 8-inch pipeline); Line KA-8 (approximately 15.5 miles of 8-inch pipeline); Harper Compressor Station (one 280 hp compressor unit); Raleigh Compressor Station (two 140 hp compressor units). The KA-8 System facilities were constructed and operated under certificate approval granted by the Commission in Docket No. CP71-132. The facilities were constructed in the early 1950's to deliver volumes from Columbia's Line KA and local production to the Beckley, West Virginia market. Columbia states that the facilities are no longer an integral part of its transmission system, retaining the facilities is inconsistent with its primary business of transporting and storing natural gas, and the abandonment will reduce its current operating and maintenance expense.

Columbia will sell the facilities to Equitable for the net depreciated book cost at the time of closing, estimated to be $2,000,000. Columbia states that it does not propose to abandon service to any customers, other than the mainline tap consumers shown in Exhibit Z-5 and to those listed on Exhibit Z-4. Columbia states that Equitable has agreed to assume any obligation that Columbia may have to provide service to the customers receiving service through the facilities at the time of closing on terms and conditions acceptable to both Equitable and the customers. Columbia attached as Exhibit Z-6 copies of the letters from its customers agreeing to the abandonment of the KA-8 System.

Any questions concerning this request may be directed to Fredric J. George, Attorney, Columbia Gas Transmission Corporation, P. O. Box 1273, Charleston, West Virginia 25325-1273 at (304) 357-2359 or fax (304) 357-3206.

Any person or the Commission's staff may, within 45 days after issuance of the instant notice by the Commission, file pursuant to Rule 214 of the Commission's Procedural Rules (18 CFR 385.214) a motion to intervene or notice of intervention and, pursuant to section 157.205 of the Regulations under the Natural Gas Act (18 CFR 157.205), a protest to the request. If no protest is filed within the time allowed therefor, the proposed activity shall be deemed to be authorized effective the day after the time allowed for filing a protest. If a protest is filed and not withdrawn within 30 days after the allowed time for filing a protest, the instant request shall be treated as an application for authorization pursuant to section 7 of the Natural Gas Act.

Comments, protests and interventions may be filed electronically via the Internet in lieu of paper. See, 18 CFR 385.2001(a)(1)(iii) and the instructions on the Commission's web site under the “e-Filing” link. The Commission strongly encourages electronic filings.

Linwood A. Watson, Jr.,
Deputy Secretary.

[FR Doc. 02-22039 Filed 8-28-02; 8:45 am]

BILLING CODE 6717-01-P